DEPARTMENT OF HOMELAND SECURITY

Coast Guard

33 CFR Part 167

[USCG-2009-0765]

Port Access Route Study: In the Approaches to Los Angeles-Long Beach and in the Santa Barbara Channel

AGENCY: Coast Guard, DHS.

ACTION: Notice of availability of study results.

SUMMARY: The Coast Guard announces the availability of a Port Access Route Study (PARS) which evaluated the continued applicability of and the potential need for modifications to the traffic separation schemes in the approaches to Los Angeles-Long Beach and in the Santa Barbara Channel. The study was completed in June 2011. This notice summarizes the study and final recommendation.

ADDRESSES: Comments and material received from the public, as well as documents mentioned in this preamble, as being available in the docket, are part of docket USCG-2009-0765 and are available online by going to http://www.regulations.gov, inserting USCG-2009-0765 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions concerning this notice, contact Lieutenant Lucas Mancini, Eleventh Coast Guard District, telephone (510) 437-3801, email Lucas.W.Mancini@uscg.mil. If you have questions on viewing the docket, contact Renee V. Wright, Program Manager, Docket Operations, (202) 366-9826.

Definitions: The following definitions should help the reader to understand terms used throughout this document:

Marine Environment, as defined by the Ports and Waterways Safety Act, means the navigable waters of the United States and the land resources therein and thereunder; the waters and fishery resources of any area over which the United States asserts exclusive fishery management authority; the seabed and subsoil of the Outer Continental Shelf of the Unites States, the resources thereof and the waters superjacent thereto; and the recreational, economic, and scenic values of such waters and resources.

Precautionary area means a routing measure comprising an area within defined limits where vessels must navigate with particular caution and within which the direction of traffic flow may be recommended.

Traffic lane means an area within defined limits in which one-way traffic is established. Natural obstacles, including those forming separation zones, may constitute a boundary.

Traffic Separation Scheme or TSS means a routing measure aimed at the separation of opposing streams of traffic by appropriate means and by the establishment of traffic lanes.

Vessel routing system means any system of one or more routes or routing measures aimed at reducing the risk of casualties; it includes traffic separation schemes, two-way routes, recommended tracks, areas to be avoided, no anchoring areas, inshore traffic zones, roundabouts, precautionary areas, and deep-water routes.

SUPPLEMENTARY INFORMATION:

Background and Purpose

The Coast Guard published a notice of study in the Federal Register on April 7, 2010 (75 FR 17562), entitled “Port Access Route Study: In the Approaches to Los Angeles-Long Beach and in the Santa Barbara Channel” and completed the study in June, 2011.

The study covered the geographic area with a northern boundary at 34°30′ N; a western boundary at 121°00′ W; a southern boundary at 33°15′ N; and an eastern boundary along the shoreline. This area encompasses the traffic separation schemes in the Santa Barbara Channel and in the approaches to Los Angeles-Long Beach; and the approach to the San Pedro Channel from the Pacific Ocean, particularly the area south of San Miguel, Santa Rosa, Santa Cruz, and Anacapa Islands; and north of San Nicolas, Santa Barbara, and Santa Catalina Islands where an increase in vessel traffic has been identified.

The primary purpose of the study was to reconcile the need for safe access routes with other reasonable waterway uses, to the extent practical. The goal of the study was to help reduce the risk of marine casualties and increase the efficiency of vessel traffic in the study area. When vessels follow predictable and charted routing measures, congestion may be reduced, and mariners may be better able to predict where vessel interactions may occur and act accordingly.

Fourteen letters and six studies were received in response to the published notice of study. The Eleventh Coast Guard District also held public meetings in Oxnard and San Pedro California to allow for comments in person. These meetings were announced in the Federal Register and conducted at the Port Hueneme Harbor District office on October 13, 2010 and the Port of Los Angeles Administration Building, on October 14, 2010.

The recommendations of the PARS are based in large part on the comments received to the docket, public outreach, and consultation with other government agencies.

Study Recommendations

The PARS evaluated 4 major concerns and 5 separate options for modification to the current vessel routing system before reaching a recommendation. We considered information presented in various studies and data collected by the U.S. Coast Guard and by other stakeholder organizations on vessel traffic patterns, density, and risks. The actual PARS should be consulted for a detailed explanation of the final recommendation. It can be accessed as described in the ADDRESSES section of this notice.

Conclusion

Based upon the results of the PARS, we found unbounded vessel traffic transiting the waters south of the Channel Islands to be a safety concern. With increased vessel traffic, the risk of collision needed to be addressed. The Coast Guard recommends creating traffic lanes south of the Channel Islands to increase predictability by providing a defined route for vessel traffic transiting south of the islands. The Coast Guard also recommends decreasing the width of the separation scheme in the Santa Barbara Channel to help in preserving the marine environment. The current separation scheme would be reduced from 4nm to 3nm, moving the southern inbound lane 1nm toward the northern lane, and reducing the separation zone between the lanes from 2nm to 1nm. The northern outbound lane would remain in place. Decreasing the width of the separation zone and shifting the southern lane 1nm to the north, will move vessel traffic away from the Channel Islands National Marine Sanctuary.

The PARS contains recommendations which would require the approval of the International Maritime Organization for implementation. The Coast Guard will follow the Federal rulemaking process for implementation of any of the proposed changes to the traffic separation scheme. This process will also include consultations with the National Marine Fisheries Service in accordance with the Endangered Species Act. This will provide ample opportunity for additional comments on proposed changes to the existing vessel routing system through a notice of proposed rulemaking (NPRM) published in the Federal Register.

Dated: October 13, 2011.
J.R. Castillo,
Rear Admiral, U.S. Coast Guard, Commander, Eleventh Coast Guard District.

[FR Doc. 2011-28270 Filed 10-31-11; 8:45 am]

BILLING CODE 9110-04-P